DEPARTMENT OF JUSTICE

Notice of Lodging of Proposed Modification To Consent Decree Under the Clean Water Act

On April 6, 2015, the Department of Justice lodged a proposed consent decree modification with the United States District Court for the Eastern District of Kentucky in the lawsuit entitled United States & Commonwealth of Kentucky v. Lexington Fayette Urban County Government, Civil Action No. 5:06-cv-00386-KSF, regarding the sanitary sewer system.

In 2011, the Court entered a consent decree in that case under which Lexington Fayette Urban County Government (“LFUCG”) agreed to perform sanitary sewer remedial measures pursuant to the sanitary sewer system and waste water treatment plant remedial measures plan under certain deadlines. The modification proposes to extend those deadlines to December 31, 2026, in light of the expanded scope and cost of those remedial measures.

The deadlines for remedial measures for LFUCG's sanitary sewer system currently range from September 10, 2023 to September 9, 2026. The Consent Decree currently provides for staggered deadlines depending on which of three groups the remedial measures projects were proposed in, and also whether the projects are associated with a waste water treatment plant upgrade. The effect of this proposed modification, which would set a single completion deadline for all projects, would be an extension which ranges in length from 113 days, to 3 years, 112 days, depending on the project at issue.

The publication of this notice opens a period for public comment on the proposed consent decree modification. Comments should be addressed to the Assistant Attorney General, Environment and Natural Resources Division, and should refer to United States et al. v. LFUCG, D.J. Ref. No. 90-5-1-1-08858. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree modification may be examined and downloaded at this Justice Department Web site: http://www.usdoj.gov/enrd/Consent_Decrees.html. We will provide a paper copy of the consent decree modification upon written request and payment of reproduction costs. Please mail your request and payment to: Consent Decree Library, U.S. DOJ—ENRD, P.O. Box 7611, Washington, DC 20044-7611.

Please enclose a check or money order for $2.75 (25 cents per page reproduction cost) payable to the United States Treasury.

Henry S. Friedman,
Assistant Section Chief, Environmental Enforcement Section, Environment and Natural Resources Division.

[FR Doc. 2015-08507 Filed 4-13-15; 8:45 am]

BILLING CODE 4410-15-P